DEPARTMENT OF DEFENSE

Department of the Air Force

Powder River Training Complex, Ellsworth Air Force Base, South Dakota, Final Environmental Impact Statement

ACTION: Notice of Availability (NOA) Record of Decision (ROD).

SUMMARY: On January 16, 2015, the United States Air Force signed the ROD for the Powder River Training Complex, Ellsworth Air Force Base, South Dakota, Final Environmental Impact Statement (EIS). This ROD states the Air Force decision to select Modified Alternative A and adopts specified mitigation measures. The Air Force will request the Federal Aviation Adminsitration (FAA) to chart the Modified Alternative A airspace to implement the decision.

The decision was based on matters discussed in the Final EIS; inputs from the public, Native American tribes, and Federal, State and local units of government, and regulatory agencies; and other relevant factors. The Final EIS was made available to the public on November 28, 2014, through a NOA in the Federal Register (Volume 79, Number 229, Page 70865) with a post-filing waiting period that ended on December 29, 2014. This ROD documents only the Air Force decision on the proposed actions analyzed in the Final EIS. Authority: This NOA is published pursuant to the regulations (40 CFR Sec. 1506.6) implementing the provisions of the National Environmental Policy Act of 1969 (42 U.S.C. 4321, et seq.) and the Air Force's Environmental Impact Analysis Process (32 CFR Secs. 989.21(b) and 989.24(b)(7)).

FOR FURTHER INFORMATION CONTACT: Judith Keith, AFCEC/CZN 2261 Hughes Ave, Ste 155, JBSA Lackland, TX 78236, 210-925-3367.

Henry Williams,
Civ, DAF, Acting Air Force Federal Register Liaison Officer.

[FR Doc. 2015-02066 Filed 2-2-15; 8:45 am]

BILLING CODE 5001-10-P